ENVIRONMENTAL PROTECTION AGENCY

[EPA-HQ-ORD-2020-0675; FRL-9147-01-ORD]

Availability of the Draft IRIS Toxicological Review of Perfluorobutanoic Acid (PFBA) and Related Compound Ammonium Perfluorobutanoic Acid; Extension of Public Comment Period

AGENCY: Environmental Protection Agency (EPA).

ACTION: Notice of public comment period; extension.

SUMMARY: The Environmental Protection Agency (EPA) is extending the public comment period for the document titled, “Availability of the Draft IRIS Toxicological Review of Perfluorobutanoic Acid (PFBA) and Related Compound Ammonium Perfluorobutanoic Acid.” The original Federal Register document announcing the public comment period was published on August 23, 2021.

DATES: The public comment period for the notice published on August 23, 2021 (86 FR 47100), is being extended. The EPA must receive comments on or before Monday, November 8, 2021.

ADDRESSES: The “Availability of the Draft IRIS Toxicological Review of Perfluorobutanoic Acid (PFBA) and Related Compound Ammonium Perfluorobutanoic Acid” is available via the internet on IRIS' website at https://www.epa.gov/iris and in the public docket at https://www.regulations.gov, Docket ID: EPA-HQ-ORD-2020-0675.

FOR FURTHER INFORMATION CONTACT: For information on the public comment period, contact the ORD Docket at the EPA Headquarters Docket Center; telephone: 202-566-1752; facsimile: 202-566-9744; or email: Docket_ORD@epa.gov.

For technical information on the IRIS Toxicological Review of Perfluorobutanoic acid (PFBA) and Related Compound Ammonium Perfluorobutanoic Acid, contact Ms. Vicki Soto, CPHEA; telephone: 202-564-3077; or email: soto.vicki@epa.gov. The IRIS Program will provide updates through the IRIS website (https://www.epa.gov/iris) and via EPA's IRIS listserv. To register for the IRIS listserv, visit the IRIS website (https://www.epa.gov/iris) or visit https://www.epa.gov/iris/forms/staying-connected-integrated-risk-information-system#connect.

SUPPLEMENTARY INFORMATION:

How To Submit Technical Comments to the Docket at https://www.regulations.gov

Submit your comments, identified by Docket ID No. EPA-HQ-ORD-2020-0675 for the Perfluorobutanoic Acid (PFBA) and Related Compound Ammonium Perfluorobutanoic Acid IRIS assessment, by one of the following methods:

• www.regulations.gov: Follow the on-line instructions for submitting comments.

• Email: Docket_ORD@epa.gov.

• Fax: 202-566-9744. Due to COVID-19, there may be a delay in processing comments submitted by fax.

• Mail: U.S. Environmental Protection Agency, EPA Docket Center (ORD Docket), Mail Code: 28221T, 1200 Pennsylvania Avenue NW, Washington, DC 20460. The phone number is 202-566-1752. Due to COVID-19, there may be a delay in processing comments submitted by mail.

For information on visiting the EPA Docket Center Public Reading Room, visit https://www.epa.gov/dockets. Due to public health concerns related to COVID-19, the EPA Docket Center and Reading Room may be closed to the public with limited exceptions. The telephone number for the Public Reading Room is 202-566-1744. The public can submit comments via www.Regulations.gov or email.

Instructions: Direct your comments to docket number EPA-HQ-ORD-2020-0675 for Perfluorobutanoic Acid (PFBA) and Related Compound Ammonium Perfluorobutanoic Acid. Please ensure that your comments are submitted within the specified comment period. Comments received after the closing date will be marked “late,” and may only be considered if time permits. It is EPA's policy to include all comments it receives in the public docket without change and to make the comments available online at www.regulations.gov, including any personal information provided, unless a comment includes information claimed to be Confidential Business Information (CBI) or other information for which disclosure is restricted by statute. Do not submit information through www.regulations.gov or email that you consider to be CBI or otherwise protected. The www.regulations.gov website is an “anonymous access” system, which means EPA will not know your identity or contact information unless you provide it in the body of your comment. If you send an email comment directly to EPA without going through www.regulations.gov, your email address will be automatically captured and included as part of the comment that is placed in the public docket and made available on the internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at www.epa.gov/epahome/dockets.htm.

Docket: Documents in the docket are listed in the www.regulations.gov index. Although listed in the index, some information is not publicly available, e.g., CBI or other information whose disclosure is restricted by statute. Certain other materials, such as copyrighted material, are publicly available only in hard copy. Publicly available docket materials are available either electronically in www.regulations.gov or in hard copy at the ORD Docket in the EPA Headquarters Docket Center.

Timothy Watkins,
Acting Director, Center for Public Health & Environmental Assessment.

[FR Doc. 2021-22784 Filed 10-19-21; 8:45 am]

BILLING CODE 6560-50-P